FEDERAL COMMUNICATIONS COMMISSION

Performance Review Board

As required by the Civil Service Reform Act of 1978 (Pub. L. 95-454), Chairman Julius Genachowski appointed the following executives to the Performance Review Board (PRB): Mary Beth Richards, Julius Knapp and Ruth Milkman.

Federal Communications Commission.
Marlene H. Dortch,
Secretary.

[FR Doc. E9-22404 Filed 9-16-09; 8:45 am]

BILLING CODE 6712-01-P